HARRY S. TRUMAN SCHOLARSHIP FOUNDATION

Sunshine Act Meeting; Meeting of the Trustees and Officers of the Harry S. Truman Scholarship Foundation

May 7, 2004, 9:30-11 a.m., U.S. Capitol, Room HC-8

I. Call to Order.

II. Welcome: President Albright.

III. Introduction of new Trustees and presentation of Certificates of Appointment.

IV. Approval of minutes of Meeting of September 3, 2003.

V. Report from the Executive Secretary: Ratification of the 2004 Truman Scholars.

VI. Financial Report of the Foundation.

VII. Discussion of the Report by the Task Force on Scholar Accountability.

VIII. Progress Report on the Task Force on Reinventing the Truman Scholarship Foundation.

IX. Recommendations from President Albright.

X. Old Business/New Business.

XI. Adjournment.

Louis H. Blair,
Executive Secretary.

[FR Doc. 04-9172 Filed 4-19-04; 1:51 pm]

BILLING CODE 6820-AD-P